DEPARTMENT OF COMMERCE

National Oceanic and Atmospheric Administration

RIN 0648-XC042

Schedules for Atlantic Shark Identification Workshops and Protected Species Safe Handling, Release, and Identification Workshops; Correction

AGENCY: National Marine Fisheries Service (NMFS), National Oceanic and Atmospheric Administration (NOAA), Commerce.

ACTION: Notice of public workshops; correction.

SUMMARY: NMFS announces that the date of the Atlantic Shark Identification workshop originally scheduled for August 9, 2012, in Rosenberg, TX, has been changed to August 16, 2012. This workshop notice originally published on June 4, 2012. The August 16, 2012, workshop will be held from 12 p.m. to 4 p.m. at LaQuinta Inn & Suites, 28332 SW Freeway 59, Rosenberg, TX 77471. The July and September workshop dates remain unchanged. Atlantic Shark Identification workshops are mandatory for Atlantic Shark Dealer permit holders or their proxies. Additional free workshops will be held in 2012, and announced in the Federal Register.

DATES: The Atlantic Shark Identification Workshop scheduled for August 9, 2012, in Rosenberg, TX, has been rescheduled for August 16, 2012. See SUPPLEMENTARY INFORMATION for further details.

ADDRESSES: The location of the rescheduled workshop has not changed. See SUPPLEMENTARY INFORMATION for further details.

FOR FURTHER INFORMATION CONTACT: Richard A. Pearson of the Highly Migratory Species Management Division at (727) 824-5399.

SUPPLEMENTARY INFORMATION:

Correction

In the Federal Register of June 4, 2012, in FR Doc. 2012-13466, on page 32950, in the third column, the second Atlantic Shark Identification workshop listed under the heading “Workshop Dates, Times, and Locations” is corrected to read as follows:

Workshop Dates, Times, and Locations

2. August 16, 2012, from 12 p.m.-4 p.m., LaQuinta Inn & Suites, 28332 SW Freeway 59, Rosenberg, TX 77471.

Authority: 16 U.S.C., 1801 et seq.

Dated: June 26, 2012.
Emily H. Menashes,
Acting Director, Office of Sustainable Fisheries, National Marine Fisheries Service.

[FR Doc. 2012-16017 Filed 6-28-12; 8:45 am]

BILLING CODE 3510-22-P